DEPARTMENT OF ENERGY

Federal Energy Regulatory Commission

[Docket No. RM99-2-000]

Regional Transmission Organizations; Notice of Filing

March 28, 2001.

Take notice that on December 15, 2000, the Electric Power Supply Association, et al., filed a motion requesting the Commission to convene a technical conference to provide guidance on implementation of Function 8 of Order No. 2000—Interregional Coordination.

We invite written comments on this on or before April 27, 2001. Any person desiring to submit comments should file them to the Office of the Secretary, Federal Energy Regulatory Commission, 888 First Street, NE., Washington, DC 20426. The comments must contain a caption that references Docket No. RM99-2-000. Copies of this filing are on file with the Commission and are available for public inspection. This filing may also be viewed on the Internet at http://www.ferc.fed.us/online/rims.htm (call 202-208-2222 for assistance).

David P. Boergers,
Secretary.

[FR Doc. 01-8117 Filed 4-2-01; 8:45 am]

BILLING CODE 6717-01-M